DEPARTMENT OF AGRICULTURE

Food Safety and Inspection Service

[Docket No. FSIS-2010-0021]

The National Advisory Committee on Meat and Poultry Inspection; Re-establishment

AGENCY: Food Safety and Inspection Service, USDA.

ACTION: Notice of re-chartering of Committee.

SUMMARY: In accordance with the Federal Advisory Committee Act, this notice announces that the Secretary of Agriculture signed the charter of the National Advisory Committee on Meat and Poultry Inspection (NACMPI) on June 19, 2010. The charter for the NACMPI is available for viewing on the NACMPI home page at http://www.fsis.usda.gov/About_FSIS/NACMPI/index.asp.

FOR FURTHER INFORMATION CONTACT: Tiffanie Newman, U.S. Department of Agriculture (USDA), Food Safety and Inspection Service (FSIS), Room 1180-S, 1400 Independence Avenue, SW., Washington, DC, 20250-3700 or by phone at (202) 720-3897 or by e-mail at Tiffanie.Newman@fsis.usda.gov.

SUPPLEMENTARY INFORMATION:

Background

The National Advisory Committee on Meat and Poultry Inspection provides advice and recommendations to the Secretary on meat and poultry inspection programs, pursuant to sections 7(c), 24, 205, 301(a)(3), and 301(c) of the Federal Meat Inspection Act [21 U.S.C. 607(c), 624, 645, 661(a)(3), 661(a)(4), and 661(c)] and to sections 5(a)(3), 5(c), 8(b), and 11(e) of the Poultry Products Inspection Act [21 U.S.C. 454(a)(3), 454(a)(4), 454(c), 457(b), and 460(e)]. The complexity of the issues to be addressed requires that the Committee meet at least twice per year. Members are appointed by the Secretary of USDA. Background materials are available on the Web at the address noted above or by contacting the person above.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape.) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web site located at http://www.fsis.usda.gov/regulations_&_policies/2010_Notices_Index/index.asp.

FSIS also will make copies of this Federal Register publication available through the FSIS Constituent Update (http://www.fsis.usda.gov/news_&_events/Constituent_Update/index.asp), which is used to provide information regarding FSIS policies, procedures, regulations, Federal Register notices, FSIS public meetings, recalls, and other types of information that could affect or would be of interest to our constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC on July 16, 2010.
Alfred V. Almanza,
Administrator.

[FR Doc. 2010-18026 Filed 7-22-10; 8:45 am]

BILLING CODE 3410-DM-P